DEPARTMENT OF ENERGY

Certification Notice—253; Notice of Filing of Self-Certification of Coal Capability Under the Powerplant and Industrial Fuel Use Act

AGENCY: Office of Electricity Delivery and Energy Reliability, DOE.

ACTION: Notice of Filing.

SUMMARY: On May 17, 2018, Clean Energy Future—Lordstown, LLC, as owner and operator of a new baseload electric generating powerplant, submitted a coal capability self-certification to the Department of Energy (DOE). The FUA and regulations thereunder require DOE to publish a notice of filing of self-certification in the Federal Register.

ADDRESSES: Copies of coal capability self-certification filings are available for public inspection, upon request, in the Office of Electricity, Mail Code OE-20, Room 8G-024, Forrestal Building, 1000 Independence Avenue SW, Washington, DC 20585.

FOR FURTHER INFORMATION CONTACT: Christopher Lawrence at (202) 586-5260.

SUPPLEMENTARY INFORMATION: On May 17, 2018, Clean Energy Future—Lordstown, LLC, as owner and operator of a new baseload electric generating powerplant, submitted a coal capability self-certification to the Department of Energy (DOE) pursuant to § 201(d) of the Powerplant and Industrial Fuel Use Act of 1978 (FUA), as amended, and DOE regulations in 10 CFR 501.60, 61. The FUA and regulations thereunder require DOE to publish a notice of filing of self-certification in the Federal Register. 42 U.S.C. 8311(d)(1) and 10 CFR 501.61(c). Title II of FUA, as amended (42 U.S.C. 8301 et seq.), provides that no new baseload powerplant may be constructed or operated without the capability to use coal or another alternate fuel as a primary energy source. Pursuant to the FUA, in order to meet the requirement of coal capability, the owner or operator of such a facility proposing to use natural gas or petroleum as its primary energy source shall certify to the Secretary of Energy (Secretary), prior to construction or prior to operation as a baseload powerplant, that such powerplant has the capability to use coal or another alternate fuel. Such certification establishes compliance with FUA section 201(a) as of the date it is filed with the Secretary. 42 U.S.C. 8311.

The following owner of a proposed new baseload electric generating powerplant has filed a self-certification of coal-capability with DOE pursuant to FUA section 201(d) and in accordance with DOE regulations in 10 CFR 501.60, 61:

Owner: Clean Energy Future—Lordstown, LLC.

Capacity: 962 megawatts (MW).

Plant Location: Lordstown, OH 44481.

In-Service Date: June 1, 2018.

Issued in Washington, DC, on May 31, 2018.
Brian Mills,
Electricity Policy Analyst, Office of Electricity.

[FR Doc. 2018-12263 Filed 6-6-18; 8:45 am]

BILLING CODE 6450-01-P